DEPARTMENT OF TRANSPORTATION

Federal Aviation Administration

Fourteen Meeting: RTCA Special Committee 206/EUROCAE WG 76 Plenary

AGENCY: Federal Aviation Administration (FAA), DOT.

ACTION: Notice of RTCA Special Committee 206 meeting.

SUMMARY: The FAA is issuing this notice to advise the public of a meeting of RTCA Special Committee 206: Aeronautical Information Services Data Link.

DATES: The meeting will be held September 8-12 from 9 a.m. to 5 p.m.

ADDRESS: The meeting will be held at Rocky Mountain Park Holiday Inn, 101 South Saint Vrain, P.O. Box 1468, Estes Park, Colorado 80517.

FOR FURTHER INFORMATION CONTACT: (1) RTCA Secretariat, 1828 L Street, NW., Suite 805, Washington, DC 20036-5133; telephone (202) 833-9339; fax (202) 833-9434; Web site http://www.rtca.org; (2) Hosted by LFV Group-Swedish Airports and Air Navigation Services; Onsite Contact: Ana Paula Frangolho, telephone 2-729-4702; fax 2-9008.

SUPPLEMENTARY INFORMATION: Pursuant to section 10(a)(2) of the Federal Advisory Committee Act (Pub. L. 92-463, 5 U.S.C., Appendix 2), notice is hereby given for a Special Committee 206 meeting/EUROCE WG 76. The agenda will include:

• September 8

• Opening Plenary (Chairman's Remarks and Introductions, Review and Approve, Discussion, Meeting Agenda and Minutes, Action Item Review, Coordination with WG78/SC2 14, Schedule for this week, Schedule for next meetings)

• Presentation

• Resolution of USED FRAC Comments—Ernie Dash

• Others to be determined

• SPR and INTEROP

• September 9-11

• AIS Subgroup Meeting

• Meteorology Subgroup Meeting

• September 12

• Subgroup 1 and Subgroup 2 Meetings

• Plenary Session

• Closing Session (Other Business, Date and Place of Next Meeting, Closing Remarks, Adjourn)

Attendance is open to the interested public but limited to space availability. With the approval of the chairmen, members of the public may present oral statements at the meeting. Persons wishing to present statements or obtain information should contact the person listed in the “FOR FURTHER INFORMATION CONTACT” section. Members of the public may present a written statement to the committee at any time.

Issued in Washington, DC, on August 6, 2008.
Francisco C. Estrada,
RTCA Advisory Committee.

[FR Doc. E8-18644 Filed 8-12-08; 8:45 am]

BILLING CODE 4910-13-M